OFFICE OF PERSONNEL MANAGEMENT

30-Day Notice of Proposed Information Collection: Federal Employees Dental and Vision Insurance Program (FEDVIP) Enrollment System

AGENCY: Office of Personnel Management.

ACTION: 30-Day notice; reopening of comment period.

SUMMARY: The Office of Personnel Management (OPM) offers the general public and other federal agencies the opportunity to comment on an existing information collection request (ICR) 3206-0272, Federal Employees Dental and Vision Insurance Program (FEDVIP) Enrollment System. As required by the Paperwork Reduction Act of 1995, as amended by the Clinger-Cohen Act, OPM is soliciting comments for this collection. The information collection was previously published in the Federal Register on March 12, 2019 allowing for a 60-day public comment period. No comments were received for this information collection. The purpose of this notice is to allow an additional 30 days for public comments.

DATES: OPM is reopening the comment period for the notice published on March 12, 2019 (84 FR 8916). Comments are encouraged and will be accepted until July 5, 2019. This process is conducted in accordance with 5 CFR 1320.1.

ADDRESSES: Interested persons are invited to submit written comments on the proposed information collection to the Office of Information and Regulatory Affairs, Office of Management and Budget, 725 17th Street NW, Washington, DC 20503, Attention: Desk Officer for the Office of Personnel Management or sent via electronic mail to oira_submission@omb.eop.gov or faxed to (202) 395-6974.

FOR FURTHER INFORMATION CONTACT: A copy of this ICR, with applicable supporting documentation, may be obtained by contacting Julia Elam, Office of Personnel Management, 1600 E St. NW, Rm. 4316-AL, Washington, DC 20415 Attention: Julia Elam or send via electronic mail to FEDVIP@opm.gov.

SUPPLEMENTARY INFORMATION: The Federal Employees Dental and Vision Insurance Program Enrollment System uses BENEFEDS, which is the secure enrollment website sponsored by OPM that allows eligible individuals to enroll or change enrollment in a FEDVIP plan. Eligible individuals use the system to enroll or change enrollment during the annual Open Season or when experiencing a qualifying life event under 5 CFR 894.101. Federal Civilian and U.S. Postal Service (USPS) employees, retirees (annuitants), survivor annuitants, compensationers, and their eligible family members can enroll and be enrolled in FEDVIP. In addition, most uniformed services retirees and their families became eligible to enroll in dental and vision insurance and most uniformed services active duty family members became eligible to enroll in vision insurance under FEDVIP during the 2018 Open Season for coverage effective January 1, 2019. OPM uses this enrollment system to carry out its responsibility to administer the FEDVIP in accordance with 5 U.S.C. chapters 89A and 89B and implementing regulations (5 CFR part 894) but has been doing so without an OMB control number.

As required by the Paperwork Reduction Act of 1995 (Pub. L. 104-13, 44 U.S.C. chapter 35) OPM is soliciting comments for this collection (OMB No. 3206-0272). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Agency: Office of Personnel Management.

Title: Federal Employees Dental and Vision Insurance Program (FEDVIP) Enrollment System.

OMB Number: 3206-0272.

Frequency: On occasion.

Affected Public: Individuals or Households.

Number of Respondents: 332,304.

Estimated Time per Respondent: 8 minutes.

Total Burden Hours: 44,307 hours.

Office of Personnel Management.
Alexys Stanley,
Regulatory Affairs Analyst.

[FR Doc. 2019-11681 Filed 6-3-19; 4:15 pm]

BILLING CODE 6325-64-P